DEPARTMENT OF COMMERCE

International Trade Administration

[A-583-833]

Polyester Staple Fiber From Taiwan: Initiation and Preliminary Results of Changed-Circumstances Antidumping Duty Administrative Review

AGENCY: Import Administration, International Trade Administration, Department of Commerce.

SUMMARY: In response to a request from Far Eastern New Century Corporation, the Department of Commerce is initiating a changed-circumstances review of the antidumping duty order on polyester staple fiber from Taiwan. We have preliminarily concluded that Far Eastern New Century Corporation is the successor-in-interest to Far Eastern Textile Limited and, as a result, should be accorded the same treatment previously accorded to Far Eastern Textile Limited with regard to the antidumping duty order on polyester staple fiber from Taiwan. Interested parties are invited to comment on these preliminary results.

DATES: Effective Date: January 26, 2010.

FOR FURTHER INFORMATION CONTACT: Michael A. Romani or Richard Rimlinger, AD/CVD Operations, Office 5, Import Administration, International Trade Administration, U.S. Department of Commerce, 14th Street and Constitution Avenue, NW., Washington, DC 20230; telephone: (202) 482-0198, or (202) 482-4477, respectively.

SUPPLEMENTARY INFORMATION:

Background

On May 25, 2000, the Department of Commerce (the Department) published in the Federal Register an antidumping duty order on polyester staple fiber from Taiwan. See Notice of Amended Final Determination of Sales at Less Than Fair Value: Certain Polyester Staple Fiber From the Republic of Korea and Antidumping Duty Orders: Certain Polyester Staple Fiber From the Republic of Korea and Taiwan, 65 FR 33807 (May 25, 2000) (Antidumping Order). One of the companies subject to the investigation was Far Eastern Textile Limited (FET).¹

¹ Although the Department referred to FET as Far Eastern Corporation in the Antidumping Order and in a subsequent sunset review, in all other segments of the proceeding the Department has referred to FET as Far Eastern Textile Limited. See, e.g., Certain Polyester Staple Fiber From Taiwan: Final Results of Antidumping Duty Administrative Review, 74 FR 18348 (April 22, 2009).

FET has participated in several administrative reviews of the Antidumping Order. On December 4, 2009, FET notified the Department that on October 13, 2009, it had legally changed its name to Far Eastern New Century Corporation (FENC). At that time FET requested that the Department conduct a changed-circumstances review to determine whether FENC is the successor-in-interest to FET.

Scope of the Order

The product covered by the order is certain polyester staple fiber (PSF). PSF is defined as synthetic staple fibers, not carded, combed or otherwise processed for spinning, of polyesters measuring 3.3 decitex (3 denier, inclusive) or more in diameter. This merchandise is cut to lengths varying from one inch (25 mm) to five inches (127 mm). The merchandise subject to the order may be coated, usually with a silicon or other finish, or not coated. PSF is generally used as stuffing in sleeping bags, mattresses, ski jackets, comforters, cushions, pillows, and furniture. Merchandise of less than 3.3 decitex (less than 3 denier) currently classifiable in the Harmonized Tariff Schedule of the United States (HTSUS) at subheading 5503.20.00.20 is specifically excluded from the order. Also specifically excluded from the order are PSF of 10 to 18 denier that are cut to lengths of 6 to 8 inches (fibers used in the manufacture of carpeting). In addition, low-melt PSF is excluded from the order. Low-melt PSF is defined as a bi-component fiber with an outer sheath that melts at a significantly lower temperature than its inner core.

The merchandise subject to the order is currently classifiable in the HTSUS at subheadings 5503.20.00.45 and 5503.20.00.65. Although the HTSUS subheadings are provided for convenience and customs purposes, the written description of the merchandise subject to the order is dispositive.

Initiation of Changed-Circumstances Review

Pursuant to section 751(b)(1) of the Tariff Act of 1930, as amended (the Act), and 19 CFR 351.216, the Department will conduct a changed-circumstances review upon receipt of information concerning, or a request from an interested party for a review of, an antidumping duty order which shows changed circumstances sufficient to warrant a review of the order. The information submitted by FENC claiming that FENC is the successor-in-interest to FET demonstrates changed circumstances sufficient to warrant such a review. See 19 CFR 351.216(d). Therefore, we are initiating a changed-circumstances review.

Analysis of Changed Circumstances

In determining whether one company is the successor to another for purposes of applying the antidumping duty law, the Department examines a number of factors including, but not limited to, changes in management, production facilities, supplier relationships, and customer base. See Notice of Final Results of Changed Circumstances Antidumping Duty Administrative Review: Polychloroprene Rubber From Japan, 67 FR 58 (January 2, 2002) (Japan Rubber), citing Brass Sheet and Strip From Canada; Final Results of Antidumping Duty Administrative Review, 57 FR 20460 (May 13, 1992) (Canada Brass). Although no single or even several of these factors will necessarily provide a dispositive indication of succession, generally the Department will consider one company to be a successor to another company if its resulting operation is similar to that of its predecessor. See, e.g., Industrial Phosphoric Acid From Israel; Final Results of Antidumping Duty Changed Circumstances Review, 59 FR 6944 (February 14, 1994); see also Canada Brass, 57 FR at 20460. Thus, if the evidence demonstrates that, with respect to the production and sale of the subject merchandise, the new company operates as the same business entity as the prior company, the Department will assign the new company the cash-deposit rate of its predecessor. See Japan Rubber, 67 FR at 59; see also Circular Welded Non-Alloy Steel Pipe From Korea; Final Results of Antidumping Duty Changed Circumstances Review, 63 FR 20572 (April 27, 1998) (finding successorship where the company only changed its name and did not change its operations).

In its December 4, 2009, submission, FENC provided the following information to demonstrate that it is the successor-in-interest to FET: (1) A press release dated October 13, 2009, announcing the name change; (2) two disclosures to the Taiwan Stock Exchange dated October 13, 2009, and October 20, 2009, announcing the name change and government approval thereof; (3) a certificate issued from the Bureau of Foreign Trade, Ministry of Economic Affairs, that states that the new English (and Chinese) names have been registered with the Bureau; (4) a letter from the Ministry of Economic Affairs approving the name change and amendment of Articles of Incorporation; (5) a letter from the Ministry of Economic Affairs approving FET's application to register the issuance of new shares (under the old name). See FENC's December 4, 2009, submission at Exhibits 1-5.

FENC's December 4, 2009, submission states that the only change is the name and that there have been no changes regarding FET's organization, ownership, management, production facilities, supplier relationships and customer base. See FENC's December 4, 2009, submission at 1-2. The press release at Exhibit 1 of FENC's December 4, 2009, submission shows that the company publicly announced the fact that its shareholders had voted to rename the company at a shareholder's meeting held on October 13, 2009. Operational changes mentioned in this announcement signaled that FENC would not only continue production but would expand and modernize operations for the production of subject merchandise. This conclusion is supported by the following three statements made by Chairman Hsu regarding his intentions toward the PSF industry: (1) “to accelerate growth through internal expansions, technology innovations, as well as mergers and acquisitions;” (2) “to scale up its production of recyclable and/or bio-degradable products” including “recycled chips and recycled fibers,” two inputs used in the production of PSF; 3) the dedication of staff “to the upgrade of facilities in order to reduce the energy consumed in the production process.” See FENC's December 4, 2009, submission at Exhibit 1, at 1. These statements made in its press release support the contention that FENC operates as FET did. FENC's announced plans for expansion of production and investment in modernizing plant and equipment indicates that the company does not plan to divest itself of its current production facilities.

Exhibit 2 of FENC's December 4, 2009, submission demonstrates FENC's disclosure of its name change and the government's approval thereof to the Taiwanese Stock Exchange on October 13, 2009, and October 20, 2009, respectively. Exhibit 3 of FENC's December 4, 2009, submission demonstrates certification of FENC's Chinese and English language name changes by the Taiwanese Bureau of Foreign Trade, Ministry of Economic Affairs, in a certification letter dated October 28, 2009.

Exhibit 4 of FENC's December 4, 2009, submission demonstrates that the government of Taiwan approved the name change and related changes to FET/FENC's Articles of Incorporation. In this exhibit, FENC submitted an approved request for the application for name change containing a “Company Limited by Shares—Change Registration Form” dated October 15, 2009. Taiwan's Ministry of Economic Affairs approved the name change and amendments to FENC's Articles of Incorporation on October 19, 2009 (reference number 09801241180). See FENC's December 4, 2009, submission at Exhibit 4, at 8. Exhibit 5 demonstrates that the government of Taiwan registered the issuance of new shares of stock while the company was still named FET on September 16, 2009. Both exhibits include “Company Limited by Shares—Change Registration Forms” and these forms from before and after the name change include identical unified business numbers, addresses, legal representatives, capital, directors, managers, officers, and business scope. See FENC's December 4, 2009, submission at Exhibit 4, at 9-14; see also FENC's December 4, 2009, submission at Exhibit 5, at 9-14. According to FENC's December 4, 2009, submission, the legal status of companies incorporated in Taiwan is substantiated by the “Company Limited by Shares—Change Registration Form” issued by the Ministry of Economic Affairs. See FENC's December 4, 2009, submission at 2.

Preliminary Results of the Review

When it concludes that expedited action is warranted, the Department may publish the notice of initiation and preliminary results for a changed-circumstances review concurrently. See 19 CFR 351.221(c)(3)(ii). See also Initiation and Preliminary Results of Antidumping Duty Changed Circumstances Review: Canned Pineapple Fruit From Thailand, 69 FR 30878 (June 1, 2004). Based on the information on the record, we have determined that expedition of this changed-circumstances review is warranted. In this case, based on the analysis discussed above, we preliminarily find that FENC is the successor-in-interest to FET and, as such, is entitled to FET's cash-deposit rate with respect to entries of subject merchandise.

Public Comment

Any interested party may request a hearing within 14 days of publication of this notice. See 19 CFR 351.310(c). Any hearing, if requested, will be held 28 days after the date of publication of this notice or the first working day thereafter. Interested parties may submit case briefs and/or written comments not later than 14 days after the date of publication of this notice. Rebuttal briefs and rebuttals to written comments, which must be limited to issues raised in such briefs or comments, may be filed not later than 21 days after the date of publication of this notice. Parties who submit case briefs or rebuttal briefs in this changed-circumstances review are requested to submit with each argument (1) a statement of the issue and (2) a brief summary of the argument with an electronic version included. Consistent with 19 CFR 351.216(e), we will issue the final results of this changed-circumstances review no later than 270 days after the date on which this review was initiated or within 45 days of publication of these preliminary results if all parties agree to our preliminary finding.

We are issuing and publishing this notice of initiation and preliminary results in accordance with sections 751(b)(1) and 777(i)(1) of the Act and 19 CFR 351.216 and 351.221(c)(3).

Dated: January 19, 2010.
Ronald K. Lorentzen,
Deputy Assistant Secretary for Import Administration.

[FR Doc. 2010-1512 Filed 1-25-10; 8:45 am]

BILLING CODE 3510-DS-P